DEPARTMENT OF LABOR

Occupational Safety and Health Administration

[Docket No. OSHA-2013-0012]

Proposed Revision of Policy for Incorporating New Test Standards Into the List of Appropriate NRTL Program Test Standards

AGENCY: Occupational Safety and Health Administration (OSHA), Labor.

ACTION: Notice.

SUMMARY: In this notice, OSHA proposes to: (1) Revise its existing policies regarding the incorporation of new test standards into the Nationally Recognized Testing Laboratory (NRTL) Program's list of appropriate test standards and into NRTLs' scopes of recognition; and (2) incorporate new test standards into the NRTL Program's list of appropriate test standards.

DATES: Submit comments, information, and documents in response to this notice, or requests for an extension of time to make a submission, on or before December 26, 2013. All submissions must bear a postmark or provide other evidence of the submission date.

ADDRESSES:

Electronically: Tender submissions electronically to the Federal eRulemaking Portal at http://www.regulations.gov. Follow the instructions online for making electronic submissions.

Facsimile: If submissions, including attachments, are not longer than 10 pages, commenters may fax them to the OSHA Docket Office at (202) 693-1648.

Regular or express mail, hand delivery, or messenger (courier) service: Tender submissions to the OSHA Docket Office, Docket No. OSHA-2013-0012, Technical Data Center, U.S. Department of Labor, 200 Constitution Avenue NW., Room N-2625, Washington, DC 20210; telephone: (202) 693-2350 (TTY number: (877) 889-5627). Note that security procedures may result in significant delays in receiving submissions sent by regular mail. Contact the OSHA Docket Office for information about security procedures concerning delivery of materials by regular or express mail, hand delivery, or messenger (courier) service. The hours of operation for the OSHA Docket Office are 8:15 a.m.-4:45 p.m., e.t.

Instructions: All submissions must include the Agency name and the docket number for this notice (OSHA-2013-0012). OSHA places comments and other materials, including any personal information, in the public docket without revision, and these materials may be available online at http://www.regulations.gov. Therefore, the Agency cautions commenters about submitting statements they do not want made available to the public, or submitting comments that contain personal information (either about themselves or others) such as Social Security numbers, birth dates, and medical data.

Docket: To read or download submissions or other material in the docket, go to http://www.regulations.gov or to the OSHA Docket Office at the address above. All documents in the docket are listed in the http://www.regulations.gov index; however, some information (e.g., copyrighted material) is not publicly available to read or download through this Web site. All submissions, including copyrighted material, are available for inspection and copying at the OSHA Docket Office.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email: Meilinger.francis2@dol.gov.

General and technical information: Contact David Johnson, Director, Office of Technical Programs and Coordination Activities, Directorate of Technical Support and Emergency Management, Occupational Safety and Health Administration, U.S. Department of Labor, 200 Constitution Avenue NW., Room N-3655, Washington, DC 20210; telephone: (202) 693-2110; email: johnson.david.w@dol.gov. OSHA's Web page includes information about the NRTL Program (see http://www.osha.gov/otpca/nrtl/index.html).

Copies of the Federal Register notice: Electronic copies of this Federal Register notice are available at http://www.regulations.gov. This Federal Register notice, as well as other relevant information, is also available on OSHA's Web page at http://www.osha.gov.

SUPPLEMENTARY INFORMATION:

I. Background

The NRTL Program recognizes organizations that provide product-safety testing and certification services to manufacturers. These organizations perform testing and certification, for purposes of the Program, to U.S. consensus-based product-safety test standards. OSHA does not develop or issue these test standards, but generally relies on U.S. standards-development organizations (SDOs) accredited by the American National Standards Institute (ANSI). The products covered by the NRTL Program consist of those items for which OSHA safety standards require “certification” by an NRTL. The requirements affect electrical products and 38 other types of products.

OSHA recognition of an organization as an NRTL signifies that the organization meets the legal requirements in the NRTL Program regulations at 29 CFR 1910.7 and the NRTL Program policies in CPL 1-0.3, “NRTL Program Policies, Procedures, and Guidelines,” December 2, 1999 (“Directive”). Recognition is an acknowledgement by OSHA that the NRTL has the capabilities to perform independent safety testing and certification of the specific products covered within the NRTL's scope of recognition. Recognition of an NRTL by OSHA also allows employers to use products certified by that NRTL to meet those OSHA standards that require product testing and certification (29 CFR 1910.7(a)).

An NRTL's scope of recognition consists, in part, of specific test standard(s) approved by OSHA for use by the NRTL. Pursuant to the NRTL Program regulations, the NRTL must first request to have a test standard included in its scope of recognition. OSHA will grant the NRTL's request only if the NRTL has the capability to test and examine equipment ¹ and materials for workplace safety purposes and to determine conformance with the test standard for each relevant item of equipment or material that it lists, labels, or accepts (29 CFR 1910.7(b)(1)). Capability includes proper testing equipment and facilities, trained staff, written testing procedures, calibration programs, and quality-control programs. An organization's recognition as an NRTL is, therefore, not for products, but for appropriate test standards covering a type of product(s) (29 CFR 1910.7(b)(1)).

¹ In this notice, OSHA uses the terms “equipment” and “product” or “products” interchangeably.

For OSHA to consider a test standard appropriate, the test standard must be current and specify the safety requirements for a specific type of product(s) (29 CFR 1910.7(c)). A test standard withdrawn by an SDO is no longer considered an appropriate test standard (Directive, App. C.XIV.B). It is OSHA's policy to remove recognition of withdrawn test standards by issuing a correction notice in the Federal Register for all NRTLs recognized for the withdrawn test standards. However, OSHA will recognize an NRTL for an appropriate replacement test standard if the NRTL has the requisite testing and evaluation capability for implementing the replacement test standard.

One method that NRTLs may use to show such capability involves an analysis to determine whether any testing and evaluation requirements of existing test standards in an NRTL's scope are comparable (i.e., are completely or substantially identical) to the requirements in the replacement test standard. If OSHA's analysis shows the replacement test standard does not require additional or different technical capability than an existing test standard, the replacement test standard is comparable to the existing test standard, and OSHA can add the replacement test standard to affected NRTLs' scopes of recognition.

If OSHA's analysis shows the replacement test standard requires an additional or different technical capability than any existing test standard, then the replacement test standard is not comparable to any existing test standard. In such cases (i.e., when test standards are not comparable), each affected NRTL that seeks to have OSHA add the replacement test standard to the NRTL's scope of recognition must provide information to OSHA that demonstrates its testing and evaluation capability to implement that standard.

II. Proposed Revisions to Existing OSHA Policy

A. Proposed Revision to Existing Policy for Incorporating New Test Standards Into the NRTL Program's List of Appropriate Test Standards

OSHA proposes to revise its existing policy regarding the incorporation of new test standards into the NRTL Program's list of appropriate test standards. Pursuant to OSHA's existing policy, OSHA incorporates test standards into the list of appropriate test standards only when OSHA processes an NRTL's application for recognition (either initial or expansion), or when OSHA incorporates into an NRTL's scope of recognition a comparable replacement test standard for a withdrawn test standard (Directive, Chapter 2; App. C.XIV.B). OSHA believes that the existing policy delays the acceptance process for valid test standards. OSHA believes the proposed revisions to the existing policy will expedite incorporation of new test standards into the NRTL Program's list of appropriate test standards and into NRTLs' scopes of recognition, and is seeking public comment on the proposed revisions.

OSHA becomes aware of new test standards through various avenues. For example, OSHA becomes aware of new test standards by: (1) Monitoring notifications issued by certain SDOs; (2) reviewing applications by NRTLs or applicants seeking recognition to include a new test standard in their scopes of recognition; and (3) obtaining notification from manufacturers, manufacturing organizations, other government agencies, or other parties that a new test standard may be appropriate to add to its list of appropriate standards. Accordingly, OSHA is proposing to expand the existing process whereby it incorporates new test standards into the NRTL Program's list of appropriate test standards. Under the proposed policy, OSHA would not only include new test standards in its list of appropriate test standards under the conditions described by its existing policy, but would include new test standards in the list when OSHA determines that such test standards are appropriate to add to the list. OSHA may determine to include a new test standard in the list, for example, if the test standard is for a particular type of product that another test standard also covers, covers a type of product that no standard previously covered, or be otherwise new to the NRTL Program.

Under the proposed policy, OSHA first would make a preliminary determination that the new test standard is appropriate under the NRTL Program regulations (29 CFR 1910.7(c)). The Agency then would periodically issue a Federal Register notice proposing to include new test standards that it identifies as appropriate in its list of appropriate test standards. When test standards are withdrawn by an SDO, OSHA also may propose in a Federal Register notice that new test standards replace withdrawn test standards in NRTLs' scopes of recognition. After OSHA publishes the preliminary determination in a Federal Register notice, it would give the public an opportunity to comment and, after reviewing these comments and other record evidence, would issue, in the Federal Register, a final determination.

B. Proposed Revision to Policy for Expanding NRTLs' Scopes of Recognition

Under existing OSHA policy, an NRTL must apply for an expansion of recognition, pursuant to the procedures in 29 CFR 1910.7, App. A, if the NRTL wants OSHA to incorporate into its scope of recognition a replacement test standard that is not comparable to a test standard that OSHA is removing from that NRTL's scope of recognition because, for example, an SDO withdrew the test standard. OSHA is proposing to modify this policy to provide for an abbreviated recognition process that allows NRTLs currently recognized for the standard being replaced to submit to OSHA, in lieu of an application for expansion, only information that demonstrates that the NRTL has the capability to perform the testing and evaluation required in the areas of the replacement test standard that are not equivalent or comparable to the standard being replaced. OSHA notes that this new policy would apply only when OSHA is removing a withdrawn test standard from an NRTL's scope of recognition. If OSHA does not currently recognize an NRTL for the standard being replaced, that NRTL could only obtain recognition for the replacement test standard by filing an application to expand the NRTL's scope of recognition as provided for by 29 CFR 1910.7, App. A.

Therefore, under the new policy, when OSHA becomes aware of a replacement test standard that is not comparable to a test standard that OSHA is removing from an NRTL's scope of recognition, OSHA would invite that NRTL, via email or letter, to submit specified information that OSHA believes demonstrates the requisite testing and evaluation capability. OSHA would include, in the letter or email, a comparability table for the replacement test standard that details proposed substantive differences between the existing and replacement test standards that OSHA believes the NRTL must address for OSHA to recognize the NRTL for the replacement standard. OSHA would follow the procedures specified by 29 CFR 1910.7, App. A, in determining whether it should incorporate the replacement test standard into the affected NRTL's scope of recognition. Thus, OSHA would issue a preliminary determination in the Federal Register, provide the public an opportunity to comment on the preliminary determination, and, after reviewing the comments and other record evidence, issue a final determination in the Federal Register on whether it will incorporate the replacement test standard into the affected NRTL's scope of recognition. In making a preliminary or final determination, OSHA also would follow other applicable procedures specified by 29 CFR 1910.7, App. A, such as requesting additional information, conducting appropriate on-site reviews, or initiating special reviews. OSHA believes the proposed policy would expedite the recognition process of replacement test standards issued by SDOs. OSHA seeks comment on this proposed policy.

III. Proposal To Add Test Standards to the NRTL Program's List of Appropriate Test Standards

Table 1, below, lists test standards that are new to the NRTL Program. OSHA preliminarily determined that these test standards are appropriate test standards and, pursuant to its proposed policy discussed above in this Federal Register notice, proposes to include these test standards in the NRTL Program's list of appropriate test standards. OSHA seeks public comment on this preliminary determination.

Table 1—Test Standards OSHA Is Proposing To Add to the NRTL Program's List of Appropriate Test Standards
Test standard | Test standard title
AAMI ES 60601-1 | Medical Electrical Equipment—Part 1-2: General requirements for Basic Safety and Essential Performance—Collateral Standard: Electromagnetic Compatibility (third edition).
ISA 60079-0 | Explosive Atmospheres—Part 0: Equipment—General Requirements.
ISA 60079-1 | Explosive Atmospheres—Part 1: Equipment Protection by Flameproof Enclosures “d”.
ISA 60079-2 | Explosive Atmospheres—Part 2: Equipment Protection by Pressurized Enclosures “p”.
ISA 60079-5 | Explosive Atmospheres—Part 5: Equipment Protection by Powder Filling “q”.
ISA 60079-6 | Explosive Atmospheres—Part 6: Equipment Protection by Oil Immersion “o”.
ISA 60079-7 | Explosive Atmospheres—Part 7: Equipment Protection by Increased Safety “e”.
ISA 60079-11 | Explosive Atmospheres—Part 11: Equipment Protection by Intrinsic Safety “i”.
ISA 60079-15 | Explosive Atmospheres—Part 15: Equipment Protection by Type of Protection “n”.
ISA 60079-18 | Explosive Atmospheres—Part 18: Equipment Protection by Encapsulation “m”.
ISA 60079-26 | Explosive Atmospheres—Part 26: Equipment for Use in Class I, Zone 0 Hazardous (Classified) Locations.
ISA 60079-28 | Explosive Atmospheres—Part 28: Protection of Equipment and Transmission Systems Using Optical Radiation.
ISA 60079-31 | Explosive Atmospheres—Part 31: Equipment Dust Ignition Protection by Enclosure “t”.
ISA 61241-0 | Electrical Apparatus for Use in Zone 20, Zone 21 and Zone 22 Hazardous (Classified) Locations—General Requirements.
ISA 61241-1 | Electrical Apparatus for Use in Zone 21 and Zone 22 Hazardous (Classified) Locations—Protection by Enclosures “tD”.
ISA 61241-2 | Electrical Apparatus for Use in Zone 21 and Zone 22 Hazardous (Classified) Locations—Protection by Pressurization “pD”.
ISA 61241-11 | Electrical Apparatus for Use in Zone 20, Zone 21 and Zone 22 Hazardous (Classified) Locations—Protection by Intrinsic Safety “iD”.
ISA 61241-18 | Electrical Apparatus for Use in Zone 20, Zone 21 and Zone 22 Hazardous (Classified) Locations—Protection by Encapsulation “mD”.
UL 50E | Enclosures for Electrical Equipment, Environmental Considerations.
UL 448B | Residential Fire Pumps Intended for One- and Two-Family Dwellings and Manufactured Homes.
UL 448C | Stationary, Rotary-Type, Positive-Displacement Pumps for Fire Protection Service.
UL 962A | Furniture Power Distribution Units.
UL 1004-1 | Rotating Electrical Machines—General Requirements.
UL 1008A | Medium-Voltage Transfer Switches.
UL 1691 | Single Pole Locking-Type Separable Connectors.
UL 1990 | Nonmetallic Underground Conduit with Conductors.
UL 2108 | February 27, 2004 Low Voltage Lighting Systems.
UL 2208 | Solvent Distillation Units.
UL 2238 | Cable Assemblies and Fittings for Industrial Control and Signal Distribution.
UL 2239 | Hardware for the Support of Conduit, Tubing, and Cable.
UL 2438 | Outdoor Seasonal-Use Cord-Connected Wiring Devices.
UL 2560 | Emergency Call Systems for Assisted Living and Independent Living Facilities.
UL 2572 | Mass Notification Systems.
UL 2577 | Suspended Ceiling Grid Low Voltage Systems and Equipment.
UL 2586 | Hose Nozzle Valves.
UL 2738 | Induction Power Transmitters and Receivers for Use with Low Energy Products.
UL 6142 | Small Wind Turbine Systems.
UL 6420 | Equipment Used for System Isolation and Rated as a Single Unit.
UL 60079-0 | Explosive Atmospheres—Part 0: Equipment—General requirements.
UL 60079-1 | Explosive Atmospheres—Part 1: Equipment Protection by Flameproof Enclosures `d'.
UL 60079-11 | Explosive Atmospheres—Part 11: Equipment Protection by Intrinsic Safety `i'.
UL 60079-15 | Explosive Atmospheres—Part 15: Equipment Protection by Type of Protection `n'.
UL 60079-18 | Explosive Atmospheres—Part 18: Equipment Protection by Encapsulation “m”.
UL 60079-5 | Explosive Atmospheres—Part 5: Equipment Protection by Powder Filling `q'.
UL 60079-6 | Explosive Atmospheres—Part 6: Equipment Protection by Oil Immersion `o'.
UL 60079-7 | Explosive Atmospheres—Part 7: Equipment Protection by Increased Safety `e'.
UL 60335-2-40 | Household and Similar Electrical Appliances, Part 2: Particular Requirements for Electrical Heat Pumps, Air-Conditioners and Dehumidifiers.
UL 60730-2-2 | Automatic Electrical Controls for Household and Similar Use; Part 2 Particular Requirements for Thermal Motor Protectors.
UL 60745-1 | Hand-Held Motor-Operated Electric Tools—Safety—Part 1: General Requirements.
UL 60745-2-1 | Hand-Held Motor-Operated Electric Tools—Safety—Part 2-1: Particular Requirements for Drills and Impact Drills.
UL 60745-2-13 | Hand-Held Motor-Operated Electric Tools—Safety—Part 2-13: Particular Requirements For Chain Saws.
UL 60745-2-14 | Hand-Held Motor-Operated Electric Tools—Safety—Part 2-14: Particular Requirements for Planers.
UL 60745-2-15 | Hand-Held Motor-Operated Electric Tools—Safety—Part 2-15: Particular Requirements for Hedge Trimmers.
UL 60745-2-17 | Hand-Held Motor-Operated Electric Tools—Safety—Part 2-17: Particular Requirements for Routers and Trimmers.
UL 60745-2-19 | Hand-Held Motor-Operated Electric Tools—Safety—Part 2-19: Particular Requirements For Jointers.
UL 60745-2-21 | Hand-Held Motor-Operated Electric Tools—Safety—Part 2-21: Particular Requirements For Drain Cleaners.
UL 60745-2-22 | Hand-Held Motor-Operated Electric Tools—Safety—Part 2-22: Particular Requirements For Cut-Off Machines.
UL 60745-2-3 | Hand-Held Motor-Operated Electric Tools—Safety—Part 2-3: Particular Requirements for Grinders, Polishers and Disk-Type Sanders.
UL 60745-2-5 | Hand-Held Motor-Operated Electric Tools—Safety—Part 2-5: Particular Requirements for Circular Saws.
UL 60947-4-1A | Low Voltage Switchgear and Controlgear—Part 4-1: Contactors and Motor-starters-Electromechanical Contractors and Motor-starters.
UL 60947-5-2 | Low-voltage Switchgear and Controlgear—Part 5-2: Control Circuit Devices and Switching Elements—Proximity Switches.
UL 60950-1 | Information Technology Equipment Safety—Part 1: General Requirements.
UL 60950-21 | Information Technology Equipment—Safety—Part 21: Remote Power Feeding.
UL 60950-22 | Information Technology Equipment Safety—Part 22: Equipment to be Installed Outdoors.
UL 60950-23 | Information Technology Equipment Safety—Part 23: Large Data Storage Equipment.
UL 61010-031 | Electrical Equipment for Measurement, Control, and Laboratory Use; Part 031: Safety Requirements for Hand-Held Probe Assemblies for Electrical Measurement and Test.
UL 61010-1 | Electrical Equipment for Measurement, Control, and Laboratory Use; Part 1: General Requirements.
UL 61010-2-030 | Safety Requirements for Electrical Equipment for Measurement, Control, and Laboratory Use—Part 2-030: Particular Requirements for Testing and Measuring Circuits.
UL 61058-1 | Switches for Appliances—Part 1: General Requirements.
UL 61800-5-1 | Adjustable Speed Electrical Power Drive Systems—Part 5-1: Safety Requirements—Electrical, Thermal and Energy.
UL 62275 | Cable Management Systems—Cable Ties for Electrical Installations.
UL 62368-1 | Audio/Video, Information and Communication Technology Equipment—Part 1: Safety Requirements.

V. Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on November 19, 2013.
David Michaels,
Assistant Secretary of Labor for Occupational Safety and Health.

[FR Doc. 2013-28093 Filed 11-22-13; 8:45 am]

BILLING CODE 4510-26-P